DEPARTMENT OF HEALTH AND HUMAN SERVICES

Centers for Disease Control and Prevention

Advisory Committee on Immunization Practices: Meeting

In accordance with section 10(a)(2) of the Federal Advisory Committee Act (P.L. 92-463), the Centers for Disease Control and Prevention (CDC) announces the following committee meeting:

Name: Advisory Committee on Immunization Practices (ACIP).

Times and Dates: 8:30 a.m.-6:45 p.m., February 21, 2001; 8 a.m.-3:15 p.m., February 22, 2001.

Place: Atlanta Marriott Century Center, 2000 Century Boulevard, N.E., Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be Discussed: The agenda will include a discussion on the U.S. influenza surveillance summary; international update and vaccine selection for 2001-2002 influenza season; 2001-2002 control and prevention of influenza recommendations; update on live attenuated influenza vaccine; status report of ACIP statement on prevention of hepatitis B; update on thimerosal and DTaP vaccines; options to transition to thimerosal free DTaP vaccines; polio outbreak in the Dominican Republic; status of outbreak and control measures; policy implications for polio vaccine in the U.S.; stock pile of polio vaccine; update from the Haemophilus influenza b vaccine dose-reduction working group; smallpox vaccine recommendations; recommended use of vaccine for laboratorians working with highly-attenuated and non-attenuated strains of vaccinia virus or other or thopoxviruses; recommended use of vaccine in a bioterrorism event involving smallpox virus; recommendations regarding antiviral alternatives to VIG for treating vaccine adverse reactions; update from the National Center for Infectious Diseases; update from the National Immunization Program; update from the Food and Drug Administration; update from the National Institutes of Health; update from the Vaccine Injury Compensation Program; update from the National Vaccine Program; Institute of Medicine report on the Immunization Safety Review Committee; review and approval of the general recommendations document; discontinuation of manufacture and marketing of the only licensed cholera vaccine in the U.S. and the only licensed typhoid fever vaccine for children age 6 months-2 years in the U.S.; pertussis among adolescents and adults in the U.S.; data from the APERT trial; update on Td vaccine supply; update on hepatitis A vaccination activities; cost effectiveness of universal childhood vaccination against hepatitis A in states covered by ACIP recommendations; and a StaphVAX phase 3 efficacy trial in end-stage renal disease patients on hemodialysis.

Agenda items are subject to change as priorities dictate.

Contact Person for More Information: Gloria A. Kovach, Program Analyst, Epidemiology and Surveillance Division, National Immunization Program, CDC,1600 Clifton Road, NE., m/s E61, Atlanta, Georgia 30333. Telephone 404/639-8096.

The Director, Management Analysis and Services office has been delegated the authority to sign Federal Register notices pertaining to announcements of meetings and other committee management activities for both the Centers for Disease Control and Prevention and the Agency for Toxic Substances and Disease Registry.

Dated: January 18, 2001.
Carolyn J. Russell,
Director, Management Analysis and Services Office, Centers for Disease Control and Prevention.

[FR Doc. 01-2109 Filed 1-23-01; 8:45 am]

BILLING CODE 4163-18-P